Title 3—

The President

Proclamation 7368 of October 20, 2000

National Day of Concern About Young People and Gun Violence, 2000

By the President of the United States of America

A Proclamation

Every day in America, approximately 10 children are shot and killed. Children 15 years old and younger are murdered with firearms at a higher rate in this country than in 25 other industrialized countries combined. These tragedies are an urgent reminder that we must not waver in our national commitment to reduce gun violence and to make our society safer for our children.

We are beginning to see some progress in our efforts. Since 1992, the national violent crime rate has dropped by more than 20 percent; violent crimes committed with firearms have dropped by 35 percent; and the firearms homicide rate has fallen over 40 percent. We have achieved much of this progress by embracing a collaborative, community-based approach to gun crime prevention and reduction.

Gun violence issues differ in each community, and no single program or approach works everywhere. In response to a directive I issued last year to help reduce gun violence and save lives, United States Attorneys and the Bureau of Alcohol, Tobacco, and Firearms Field Division Directors for each of our Nation's 94 Federal judicial districts have developed locally coordinated gun violence reduction strategies. Working closely with local law enforcement, elected officials, and other community leaders, they are tailoring plans to local needs and developing strategies to prevent gun crimes from occurring and crack down on gun criminals.

A major goal of our strategy to reduce gun violence and ensure the safety of our children is to keep guns out of the wrong hands. We passed the Brady Act to help accomplish this goal by requiring that every person who purchases a firearm from a federally licensed dealer submit to a background check. To date, Brady background checks have prevented more than 536,000 felons and other prohibited individuals from acquiring firearms. We also succeeded in banning assault weapons, making “zero tolerance” for guns in schools the law of the land, and passing legislation that prohibits juveniles from possessing handguns. However, our determination to reduce gun violence must not stop there. I have called on the Congress to build on these measures by passing legislation that closes the gun show loophole, mandates child safety locks with every handgun sold, and bans large-capacity ammunition clips.

We have also provided funding for more than 100,000 community police officers; for the Safe Schools/Healthy Students initiative to reduce youth violence through collaborative, community-based efforts; and for the 21st Century Community Learning Centers—safe places where students can go after school to participate in constructive activities and avoid the dangers of guns, gangs, and drugs.

But none of these efforts can succeed without the commitment of America's youth. It takes courage to resist negative peer pressure; it takes character to settle disputes without resorting to violence; and it takes a sense of personal responsibility to tell an adult when others fail to live up to these standards. On this National Day of Concern, I ask every young American to sign a Student Pledge Against Gun Violence, which contains a solemn oath never to bring a gun to school, never to use a gun to settle a dispute, and to use their influence to keep others from using guns. By doing so, they will take an important, life-affirming step toward a brighter and safer future.

NOW, THEREFORE, I, WILLIAM J. CLINTON, President of the United States of America, by virtue of the authority vested in me by the Constitution and laws of the United States, do hereby proclaim October 21, 2000, as a National Day of Concern About Young People and Gun Violence. On this day, I call upon young people in classrooms and communities across the United States to voluntarily sign the Student Pledge Against Gun Violence. I also call upon all Americans to commit themselves anew to helping our Nation's young people reject violence and to make our schools and neighborhoods safe places for learning and recreation.

IN WITNESS WHEREOF, I have hereunto set my hand this twentieth day of October, in the year of our Lord two thousand, and of the Independence of the United States of America the two hundred and twenty-fifth.

wj

[FR Doc. 00-27597

Filed 10-24-00; 8:45 am]

Billing code 3195-01-P